DEPARTMENT OF COMMERCE

International Trade Administration

[A-533-887, A-583-865, A-549-840]

Carbon and Alloy Steel Threaded Rod From India, Taiwan, and Thailand: Final Results of the Expedited First Sunset Reviews of the Antidumping Duty Orders

AGENCY: Enforcement and Compliance, International Trade Administration, Department of Commerce.

SUMMARY: As a result of these expedited sunset reviews, the U.S. Department of Commerce (Commerce) finds that revocation of the antidumping duty (AD) orders on expedited carbon and alloy steel threaded rod (steel threaded rod) from the India, Taiwan, and Thailand would be likely to lead to the continuation or recurrence of dumping at the levels indicated in the “Final Results of Sunset Reviews” section of this notice.

DATES: Applicable March 11, 2025.

FOR FURTHER INFORMATION CONTACT: Ashlyn Holeyfield, Trade Agreements Policy and Negotiations, Enforcement and Compliance, International Trade Administration, U.S. Department of Commerce, 1401 Constitution Avenue NW, Washington, DC 20230; telephone: (202) 482-0017.

SUPPLEMENTARY INFORMATION:

Background

On December 13, 2019, Commerce published in the Federal Register the AD order on steel threaded rod from Thailand, and subsequently published AD orders for steel threaded rod from Taiwan on February 5, 2020, and from India on April 9, 2020.¹ On November 4, 2024, Commerce published the Initiation Notice of the first sunset reviews of the Orders, pursuant to section 751(c)(2) of the Tariff Act of 1930, as amended (the Act).² On November 19, 2024, Commerce received notices of intent to participate in these reviews from Vulcan Threaded Products Inc. (the domestic interested party) within the deadline specified in 19 CFR 351.218(d)(1)(i).³ The domestic interested party claimed interested party status under section 771(9)(C) of the Act as a producer of the domestic like product in the United States.⁴ On November 25, 2024 Commerce notified the U.S. International Trade Commission (ITC) that it received notices of intent to participate from the domestic interested party.⁵

¹ See Carbon and Alloy Steel Threaded Rod From Thailand: Antidumping Duty Order, 84 FR 68108 (December 13, 2019); see also Carbon and Alloy Steel Threaded Rod From Taiwan: Antidumping Duty Order, 85 FR 6511 (February 5, 2020); and Carbon and Alloy Steel Threaded Rod From India: Amended Final Determination of Sales at Less Than Fair Value and Antidumping Duty Order, 85 FR 19925 (April 9, 2020) (collectively, Orders).

² See Initiation of Five-Year (Sunset) Reviews, 89 FR 87543 (November 4, 2024).

³ See Domestic Interested Parties' Letter, “Domestic Interested Parties' Notification of Intent to Participate,” dated November 19, 2024.

⁴ Id.

⁵ See Commerce's Letter, “Sunset Reviews Initiated on November 4, 2024,” dated November 25, 2024.

On December 2, 2024, Commerce received adequate substantive responses from the domestic interested party.⁶ We received no substantive responses from respondent interested parties. On December 26, 2024, Commerce notified the ITC that it did not receive substantive responses from any respondent interested parties.⁷ As a result, pursuant to section 751(c)(3)(B) of the Act and 19 CFR 351.218(e)(1)(ii)(C)(2), Commerce conducted expedited (120-day) sunset reviews of the Orders.

⁶ See Domestic Interested Party's Letters, “Five-Year (Sunset) Review of the Antidumping Duty Order on Carbon and Alloy Steel Threaded Rod from Taiwan—Petitioner's Substantive Response to Notice of Initiation,” dated December 2, 2024; “Five-Year (Sunset) Review of the Antidumping Duty Order on Carbon and Alloy Steel Threaded Rod from Thailand—Petitioner's Substantive Response to Notice of Initiation,” dated December 2, 2024; and “Five-Year (Sunset) Review of the Antidumping Duty Order on Carbon and Alloy Steel Threaded Rod from the Republic of India—Petitioner's Substantive Response to Notice of Initiation,” dated December 2, 2024.

⁷ See Commerce's Letter, “Sunset Reviews Initiated on November 4, 2024,” dated December 26, 2024.

Scope of the Orders

The product covered by these Orders is steel threaded rod from India, Taiwan, and Thailand. For a full description of the scope, see the Issues and Decision Memorandum.⁸

⁸ See Memorandum, “Issues and Decision Memorandum for the Final Results of the Expedited Sunset Reviews on Carbon and Alloy Steel Threaded Rod Steel Threaded Rod from India, Taiwan, and Thailand,” dated concurrently with, and hereby adopted by, this notice (Issues and Decision Memorandum).

Analysis of Comments Received

A complete discussion of all issues raised in these sunset reviews, including the likelihood of continuation or recurrence of dumping and the magnitude of the margins of dumping likely to prevail, is contained in the Issues and Decision Memorandum.⁹ A list of topics discussed in the Issues and Decision Memorandum is included as an appendix to this notice. The Issues and Decision Memorandum is a public document and is on file electronically via Enforcement and Compliance's Antidumping and Countervailing Duty Centralized Electronic Service System (ACCESS). ACCESS is available to registered users at http://access.trade.gov. In addition, a complete version of the Issues and Decision Memorandum can be directly accessed at http://access.trade.gov/public/FRNoticesListLayout.aspx.

⁹ Id.

Final Results of Sunset Reviews

Pursuant to sections 751(c)(1), and 752(c)(1) and (3) of the Act, Commerce determines that revocation of the Orders would be likely to lead to the continuation or recurrence of dumping and that the magnitude of dumping likely to prevail would be margins up to 28.34 percent for India, up to 32.26 percent for Taiwan, and up to 20.83 percent for Thailand.¹⁰

¹⁰ See Orders.

Administrative Protective Order (APO)

This notice serves as the only reminder to interested parties subject to an APO of their responsibility concerning the return/destruction or conversion to judicial protective order of proprietary information disclosed under APO in accordance with 19 CFR 351.305. Timely notification of the return or destruction of APO materials or conversion to judicial protective order is hereby requested. Failure to comply with the regulations and terms of an APO is a violation which is subject to sanction.

Notification to Interested Parties

We are issuing and publishing these final results in accordance with sections 751(c), 752(c), and 777(i)(1) of the Act, and 19 CFR 351.221(c)(5)(ii).

Dated: March 4, 2025.
Christopher Abbott,
Deputy Assistant Secretary for Policy and Negotiations, performing the non-exclusive functions and duties of the Assistant Secretary for Enforcement and Compliance.

Appendix

List of Topics Discussed in the Issues and Decision Memorandum

I. Summary

II. Background

III. Scope of the Orders

IV. History of the Orders

V. Legal Framework

VI. Discussion of the Issues

1. Likelihood of Continuation or Recurrence of Dumping

2. Magnitude of the Margins of Dumping Likely to Prevail

VII. Final Results of Sunset Reviews

VIII. Recommendation

[FR Doc. 2025-03826 Filed 3-10-25; 8:45 am]

BILLING CODE 3510-DS-P